NUCLEAR REGULATORY COMMISSION

[Docket No. 50-336]

Northeast Nuclear Energy Company, et al.; Millstone Nuclear Power Station Unit 2; Environmental Assessment and Finding of No Significant Impact

The U.S. Nuclear Regulatory Commission (the Commission) is considering issuance of an exemption from the requirements of Title 10 of the Code of Federal Regulations, Part 50 (10 CFR Part 50), Appendix R, Section III.J to Facility Operating License No. DPR-65, issued to the Northeast Nuclear Energy Company, et al., (NNECO or the licensee), for operation of the Millstone Nuclear Power Station, Unit 2, located in Waterford, Connecticut.

Environmental Assessment

Identification of the Proposed Action

The licensee has requested an exemption from the requirements of 10 CFR Part 50, Appendix R, Section III. J to the extent that it requires emergency lighting units with at least an 8-hour battery power supply to light all areas needed for operation of safe shutdown equipment and in access and egress routes thereto. The licensee based this exemption request primarily on the security lighting system currently installed at the plant for access and egress route emergency lighting to meet the underlying purpose of the rule. The underlying purpose of the rule is to ensure that lighting of sufficient duration and reliability is provided to allow operation of equipment required for post-fire, safe shutdown of the reactor.

The proposed action is in accordance with the licensee's application for an exemption dated February 14, 2000, as supplemented by letters dated April 5 and May 31, 2000.

The Need for the Proposed Action

The proposed action is needed for the licensee to avoid the burden of full compliance with the regulations. Full compliance with the regulations would require battery powered lights to illuminate a large outdoor area for an 8-hour period. It is not considered practical to illuminate large outdoor areas with battery powered lighting for an 8-hour period. The licensee already has diesel-powered security lighting in the same area and portable lighting equipment is also available. As noted above, the underlying purpose of the rule can be met without the burden of installing additional lighting.

Environmental Impacts of the Proposed Action

The NRC has completed its evaluation of the proposed action. The underlying purpose of the rule the licensee is requesting to be exempted from is to ensure that the plant can be safely shut down in the event of a fire.

Based on the availability and reliability of the security lighting and the availability of portable lighting, there is reasonable assurance that the access and egress routes through the yard area that are relied on for safe shutdown of the facility can be accessed in the event of a fire.

On the basis of its review, the staff concludes that the licensee will still have the capability to safely shut down the plant, in the event of a fire, after this exemption has been granted.

The proposed action will not significantly increase the probability or consequences of accidents, no changes are being made in the types of effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Millstone Nuclear Power Station, Unit 2.

Agencies and Persons Consulted

In accordance with its stated policy, on March 16, 2000, the staff consulted with the Connecticut State official, Michael Firsick of the Division of Radiation, Department of Environmental Protection, regarding the environmental impact of the proposed action. The State official had no comments.

Finding of No Significant Impact

On the basis of the environmental assessment, the Commission concludes that the proposed action will not have a significant effect on the quality of the human environment. Accordingly, the Commission has determined not to prepare an environmental impact statement for the proposed action.

For further details with respect to the proposed action, see the licensee's letter dated February 14, 2000, as supplemented by letters dated April 5 and May 31, 2000, which are available for public inspection at the Commission's Public Document Room, the Gelman Building, 2120 L Street, NW., Washington, DC. Publicly available records will be accessible electronically from the Agencywide Documents Access and Management System (ADAMS) Public Library component of the NRC Web site, ­<http://www.nrc.gov> (the Electronic Reading Room).

Dated at Rockville, Maryland, this 29th day of June, 2000.
For the U.S. Nuclear Regulatory Commission.
Jacob I. Zimmerman,
Project Manager, Section 2, Project Directorate I, Division of Licensing Project Management, Office of Nuclear Reactor Regulation.

[FR Doc. 00-17033 Filed 7-5-00; 8:45 am]

BILLING CODE 7590-01-P